DEPARTMENT OF VETERANS AFFAIRS

Enhanced-Use Lease of VA Property for the Development and Operation of a Transitional Housing Facility for Homeless Veterans at the Department of Veterans Affairs Medical Center, Batavia, NY

AGENCY: Department of Veterans Affairs (VA).

ACTION: Notice of intent to enter into an enhanced-use lease.

SUMMARY: The Secretary of the Department of Veterans Affairs (VA) intends to enter into an enhanced-use lease of approximately 7,196 square feet of underutilized space at the VA Medical Center in Batavia, New York. The selected lessee would finance, design, develop, operate and maintain a transitional housing facility consisting of no less than 7 two-bedroom units and 4 one-bedroom units for a total of 18 units. As consideration for the lease, eligible veterans would be provided facility units and related services on a priority basis at no cost to VA.

FOR FURTHER INFORMATION CONTACT: Edward Bradley, Office of Asset Enterprise Management (004B), Department of Veterans Affairs, 810 Vermont Avenue, NW., Washington, DC 20420, (202) 461-7778 (Not a toll-free number).

SUPPLEMENTARY INFORMATION: Title 38 U.S.C. 8161 et seq. states that the Secretary may enter into an enhanced-use lease if he determines that the implementation of a business plan proposed by the Under Secretary for Health for applying the consideration under such a lease to the provision of medical care and services would result in a demonstrable improvement of services to eligible veterans in the geographic service-delivery area within which the property is located. This project meets this requirement.

Approved: February 15, 2008.
James B. Peake,
Secretary of Veterans Affairs.

[FR Doc. E8-3414 Filed 2-22-08; 8:45 am]

BILLING CODE 8320-01-P